DEPARTMENT OF TRANSPORTATION

Federal Railroad Administration

Petition for Waiver of Compliance

In accordance with part 211 of Title 49 of the Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief.

North County Transit District (Supplement to Waiver Petition Docket Number FRA-2002-11809)

As a supplement to the North County Transit District (NCTD) Petition for Approval of Shared Use and Waiver of Certain Federal Railroad Administration Regulations (the waiver was granted by the FRA on June 24, 2003), NCTD seeks a permanent waiver of compliance from additional sections of Title 49 of the CFR for operation of its SPRINTER rail line between Oceanside, CA, and Escondido, CA. See Statement of Agency Policy Concerning Jurisdiction Over the Safety of Railroad Passenger Operations and Waivers Related to Shared Use of the Tracks of the General Railroad System by Light Rail and Conventional Equipment, 65 FR 42529 (July 10, 2000). See also Joint Statement of Agency Policy Concerning Shared Use of the Tracks of the General Railroad System by Conventional Railroads and Light Rail Transit Systems, 65 FR 42626 (July 10, 2000).

On February 3, 2005, NCTD submitted an additional request for relief from the following elements of Part 223 (Safety Glazing Standards—Locomotive, Passenger Cars and Cabooses) and Part 229 (Railroad Locomotive Safety Standards). On April 18, 2006, FRA gave conditional relief concerning Part 233 but denied NCTD's request under part 229 concerning headlight intensity.

The NCTD has further advanced the design of the SPRINTER cars and is requesting relief for regulations from which it hereby seeks waivers: 49 CFR Part 229 Railroad Locomotive Safety Standards, § 229.125(a) [headlights] and § 229.125(d)(2) [auxiliary lights]. Since FRA has not yet completed its investigation of NCTD's petition, the agency takes no position at this time on the merits of NCTD's stated justifications.

Interested parties are invited to participate in these proceedings by submitting written views, data, or comments. FRA does not anticipate scheduling a public hearing in connection with these proceedings because two public hearings concerning NCTD's waiver requests have been held to date. If any interested party desires an opportunity for oral comment, they should notify FRA in writing within 15 days of the date of this notice, and must specify the basis for their request.

All communications concerning these proceedings should identify the appropriate docket number (e.g., Waiver Petition Docket Number 2002-11809) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000, (Volume 65, Number 70, Pages 19477-78). The statement may also be found at http://dms.dot.gov.

Issued in Washington, DC, on June 30, 2006.
Grady C. Cothen, Jr.,
Deputy Associate Administrator for Safety Standards and Program Development.

[FR Doc. E6-10646 Filed 7-6-06; 8:45 am]

BILLING CODE 4910-06-P